DEPARTMENT OF AGRICULTURE

Agricultural Marketing Service

7 CFR Part 51

[Docket # AMS-FV-2007-0008; FV-06-310]

United States Standards for Grades of Florida Avocados

AGENCY: Agricultural Marketing Service, USDA.

ACTION: Advance notice of proposed rulemaking.

SUMMARY: The Agricultural Marketing Service (AMS), prior to undertaking research and other work associated with revising official grade standards, is soliciting comments on the possible revisions of the United States Standards for Grades of Florida Avocados. At a meeting with the Fruit and Vegetable Industry Advisory Committee, AMS was asked to review the Fresh Fruit and Vegetable grade standards for usefulness in serving the industry. As a result AMS is considering revisions to the Florida Avocado standard to include all avocados.

DATES: Comments must be received by May 29, 2007.

ADDRESSES: Interested persons are invited to submit written comments on the internet at http://www.regulations.gov or to the Standardization Section, Fresh Products Branch, Fruit and Vegetable Programs, Agricultural Marketing Service, U.S. Department of Agriculture, 1400 Independence Ave. SW., Room 1661 South Building, Stop 0240, Washington, DC 20250-0240; Fax (202) 720-8871. Comments should make reference to the dates and page number of this issue of the Federal Register and will be made available for public inspection in the above office during regular business hours.

FOR FURTHER INFORMATION CONTACT: Vincent J. Fusaro, Standardization Section, Fresh Products Branch, (202) 720-2185. The United States Standards for Grades of Florida Avocados are available either through the address cited above or by accessing the Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request.

AMS is considering revisions to the United States Standards for Grades of Florida Avocados. These standards were published on September 3, 1957.

Background

At a meeting with the Fruit and Vegetable Industry Advisory Committee, AMS was asked to review the Fresh Fruit and Vegetable grade standards for usefulness in serving the industry. AMS has identified the United States Standards for Grades of Florida Avocados (7 CFR 51.3050-3069) for possible revision. The current standard only applies to avocados grown in Florida. AMS is considering revisions to the standards so it may be applied to all avocados. The title of the standard would be modified by deleting “Florida,” to make the standards generic to cover all avocados. As a result this allows for avocados from different growing regions to be marketed and certified to a grade using the standard. AMS will also eliminate § 51.3054 entitled “Unclassified.” This section is not a grade and only serves to show than no grade has been applied to the lot. This section will be removed from all fresh fruit and vegetable standards. It is no longer considered necessary. However, prior to undertaking detailed work to develop the proposed revision to the standards, AMS is soliciting comments on these changes as well as any other revisions to the United States Standards for Grades of Florida Avocados to better serve the industry. Users of these standards include: voluntary, destination and shipping point users, in addition to required users.

AMS is seeking comments regarding how, if at all, marketing would be improved by removing the word “Florida” so the standard could be applied to all avocados, including avocados grown outside the state of Florida. Further, comments outlining any additional costs or benefits would be helpful in determining a final decision after the comments are received and reviewed. AMS will also review any other suggested revisions and would be interested in how they would improve the marketing of avocados and any associated costs and/or benefits to the industry.

There is a mandatory marketing program which regulates the handling of Florida avocados under (7 CFR part 915). Avocados under the marketing order have to meet certain requirements set forth in the grade standards. In addition, avocados are subject to section 8e import requirements (7 CFR part 944) under the Agricultural Marketing Act of 1937, as amended (7 U.S.C. 601-674) which requires imported avocados to meet grade, size, quality under the applicable marketing order.

Executive Order 12866

The Office of Management and Budget has waived the review process required by Executive Order 12866 for this action.

This notice provides for a 60-day comment period for interested parties to comment on whether any changes are necessary to the standards. Should AMS conclude that there is a need for any revisions of the standards, the proposed revisions will be published in the Federal Register with a request for comments.

Authority: 7 U.S.C. 1621-1627.

Dated: March 23, 2007.
Lloyd C. Day,
Administrator, Agricultural Marketing Service.

[FR Doc. E7-5788 Filed 3-28-07; 8:45 am]

BILLING CODE 3410-02-P